DEPARTMENT OF STATE

[Public Notice: 4795]

60-Day Notice of Proposed Information Collection: DS-10, Birth Affidavit, OMB Control Number 1405-0132

ACTION: 60-Day notice to the public for comments.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Regular—Extension of a currently approved collection.

Originating Office: Bureau of Consular Affairs, Department of State, Passport Services, Office of Field Operations, Field Coordination Division.

Title of Information Collection: Birth Affidavit.

Frequency: On occasion.

Form Number: DS-10.

Respondents: Individuals or Households.

Estimated Number of Respondents: 86,500 per year.

Estimated Number of Responses: 86,500 per year.

Average Hours Per Response: 15 minutes.

Total Estimated Burden: 21,625 hours per year.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

Abstract of proposed collection: The Birth Affidavit is used in conjunction with a passport application by Passport Services to collect information for the purpose of establishing the citizenship of a passport applicant who has not submitted an acceptable United States birth certificate with his/her passport application.

Methodology: When needed, Birth Affidavit is completed at the time a U.S. citizen applies for a U.S. passport.

FOR FURTHER INFORMATION CONTACT: Public comments, or requests for additional information, regarding the collection listed in this notice should be directed to Margaret A. Dickson, U.S. Department of State, CA/PPT/FO/FC, 2100 Pennsylvania Avenue, NW., 3rd Floor/Room 3040/SA-29, Washington, DC 20037, dicksonma@state.gov who may be reached at 202.663.2460.

Dated: July 21, 2004.
Frank Moss,
Acting Deputy Assistant Secretary for Passport Services, Bureau of Consular Affairs, Department of State.

[FR Doc. 04-17786 Filed 8-3-04; 8:45 am]

BILLING CODE 4710-06-P